DEPARTMENT OF AGRICULTURE

Rural Utilities Service

East Texas Electric Cooperative: Notice of Availability of an Environmental Assessment

AGENCY: Rural Utilities Service, USDA.

ACTION: Notice of availability of an Environmental Assessment for public review.

SUMMARY: The Rural Utilities Service (RUS), an agency delivering the United States Department of Agriculture (USDA) Rural Development Utilities Programs, hereinafter referred to as Rural Development, is issuing an Environmental Assessment (EA) related to possible financial assistance to East Texas Electric Cooperative (ETEC) of Nacogdoches, Texas, for the proposed construction of approximately 168 MW simple cycle combustion turbine generation station in San Jacinto County, Texas. ETEC is requesting USDA Rural Development to provide financial assistance for the proposed project.

DATES: Written comments on this Notice must be received on or before February 16, 2008.

ADDRESSES: To send questions and comments or for further information, contact: Dennis Rankin, Environmental Protection Specialist, USDA, Rural Development Utilities Programs, Engineering and Environmental Staff, 1400 Independence Avenue, SW., Stop 1571, Washington, DC 20250-1571, telephone (202) 720-1953, or e-mail: dennis.rankin@wdc.usda.gov. The EA will be available for public review at the USDA Rural Development, Utilities Programs, 1400 Independence Avenue, SW., Washington, DC 20250-1571: at the USDA Rural Development's Web site— http://www.usda.gov/rus/water/ees/ea.htm; at ETEC's Web site— http://www.etec.coop/projects.html; and the Shepherd Public Library, 30 North Liberty Street, Shepherd, TX 77371.

SUPPLEMENTARY INFORMATION: The ETEC proposes to construct the San Jacinto County Peaking Facility (SJCPF), a 168 MW simple cycle combustion turbine generation station, in San Jacinto County, Texas. The proposal is located approximately 5 miles south of Shepherd and 2 miles east of U.S. Highway 59. Construction on the proposal is expected to commence in June 2008 with an expected completion date of May 2009. The generation facility will be constructed, owned, operated, and maintained by ETEC.

The generation units at the SJCPF will consist of two (2) natural gas fired combustion turbines that have a net output of 84 MW each. The proposal will require the construction of less than 500 feet of transmission line to interconnect with Entergy's existing 138 kV Jacinto-Poco transmission line that crosses the property where the SJCPF will be located. The output of the SJCPF will be used to meet ETEC's power and energy requirements in east Texas, along with providing added reliability and stability to the region's power and transmission system.

Alternatives considered by USDA Rural Development and ETEC included: (a) No action; (b) alternate generation alternatives, and (c) other electrical alternatives. An Environmental Report (ER) that describes the proposal in detail and discusses its anticipated environmental impacts has been prepared by ETEC. The USDA Rural Development has accepted the ER as its EA for the proposal. The EA is available for public review at the addresses provided above in this Notice.

Written comments received by the due date will be considered in the environmental impact determination.

Should USDA Rural Development determine, based on the EA of the proposal, that the impacts of the construction and operation of the project would not have a significant environmental impact, it will prepare a Finding of No Significant Impact. Public notification of a Finding of No Significant Impact will be published in the Federal Register and in newspapers with circulation in the project area.

Any final action by USDA Rural Development related to the proposal will be subject to, and contingent upon, compliance with all relevant federal, state and local environmental laws and regulations and completion of the environmental review procedures as prescribed by USDA Rural Development Environmental Policies and Procedures (7 CFR part 1794).

Dated: January 14, 2008.
Mark S. Plank,
Director, Engineering and Environmental Staff, USDA/Rural Development/Utilities Programs.

[FR Doc. E8-958 Filed 1-18-08; 8:45 am]

BILLING CODE 3410-15-P